DEPARTMENT OF ENERGY

Federal Energy Regulatory Commission

[Project No 77-162]

Pacific Gas and Electric Company; Notice of Availability of Environmental Assessment

March 28, 2007.

In accordance with the National Environmental Policy Act of 1969 and the Federal Energy Regulatory Commission (Commission or FERC) regulations contained in the Code of Federal Regulations (CFR) (18 CFR part 380 [FERC Order No. 486, 52 FR 47897]), the Office of Energy Project's staff (staff) reviewed a proposal to amend the license for the Potter Valley Project, to allow a temporary variance in license required flows for frost protection in Potter Valley for the period March 15-April 14, 2007, and prepared an environmental assessment (EA) for this proposed amendment. In this EA, staff analyzes the impacts of the temporary change in flows on the environmental resources, including fisheries resources of the project area and the protection against economic loss to agricultural interests in Potter Valley. The EA concludes that the proposed action will not constitute a major federal action significantly affecting the human environment.

A copy of the EA is attached to Commission order titled “Order Granting License Amendment, and Providing Notice and Opportunity to Intervene and Comment”, issued March 21, 2007 and is available for review at the Commission in the Public Reference Room, located at 888 First Street, NE., Room 2A, Washington, DC 20426, or may be viewed on the Commission's Web site at http://www.ferc.gov using the “eLibrary” link. Enter the docket number excluding the last three digits in the docket number field to access the document. For assistance, call toll-free 1-866-209-3676 or e-mail FERCOnlineSupport@ferc.gov. For TTY, call (202) 502-8659.

Philis J. Posey,
Acting Secretary.

[FR Doc. E7-6103 Filed 4-2-07; 8:45 am]

BILLING CODE 6717-01-P